ENVIRONMENTAL PROTECTION AGENCY

[AMS-FRL-8023-1]

California State Nonroad Engine and Vehicle Pollution Control Standards; TRU Authorization Request; Notice of New Hearing Date

AGENCY: Environmental Protection Agency.

ACTION: Notice of opportunity for public hearing and comment.

SUMMARY: The California Air Resources Board (CARB) has notified EPA that it has adopted an Airborne Toxic Control Measure (ATCM) establishing in-use performance standards for nonroad engines used in transport refrigeration units (TRU) and TRU generator sets that will be phased-in commencing on December 31, 2008. By letter dated March 28, 2005, CARB requested that EPA grant California authorization for such standards under section 209(e)(2) of the Clean Air Act (CAA), 42 U.S.C. 7543(b). On November 21, 2005, EPA announced an opportunity for public hearing and request for public comment on this request (70 FR 70075). In that Notice, EPA tentatively scheduled a public hearing on this request for January 3, 2006, and a deadline date for written public comments of February 6, 2006. EPA has received requests for this hearing from multiple parties, and has been asked if the hearing could be held later in January because of travel concerns. By today's notice, EPA announces a rescheduled hearing date and public comment deadline for this request.

DATES: EPA will hold a public hearing concerning CARB's request on Monday, January 23, 2006, beginning at 10 a.m. Any party may submit written comments on this request by February 22, 2006. Parties wishing to present oral testimony at the public hearing should provide written notice to Robert M. Doyle at the address noted below, by or before January 18, 2005.

ADDRESSES: EPA will make available for public inspection at the Air and Radiation Docket and Information Center written comments received from interested parties, in addition to any testimony given at the public hearing. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Air and Radiation Docket is (202) 566-1743. The reference number for this docket is OAR-2005-0123. Parties wishing to present oral testimony at the public hearing should provide written notice to Robert M. Doyle at the address noted below. EPA will hold the public hearing at 1310 L St, NW., Room 152, Washington, DC. 20005.

FOR FURTHER INFORMATION CONTACT: Robert M. Doyle, Compliance and Innovative Strategies Division (6405J), U.S. Environmental Protection Agency, 1200 Pennsylvania Ave, NW., Washington, DC 20460. Telephone: (202) 343-9258, Fax: (202) 343-2804, e-mail address: Doyle.Robert@EPA.GOV. EPA will make available an electronic copy of this Notice on the Office of Transportation and Air Quality's (OTAQ's) homepage (http://www.epa.gov/otaq/). Users can find this document by accessing the OTAQ homepage and looking at the path entitled “Federal Register Notices.” This service is free of charge, except any cost you already incur for Internet connectivity. Users can also get the official Federal Register version of the Notice on the day of publication on the primary Web site: http://www.epa.gov/docs/fedrgstr/EPA-AIR/.

Docket: An electronic version of the public docket is available through the Federal government's electronic public docket and comment system. You may access EPA dockets at http://www.regulations.gov. After opening the www.regulations.gov Web site, select “Environmental Protection Agency” from the pull-down Agency list, then scroll to Docket ID EPA-HQ-OAR-2005-0123 to view documents in, or submit comments to, the record of the TRU authorization request. Although a part of the official docket, the public docket does not include Confidential Business Information (CBI) or other information whose disclosure is restricted by statute.

Dated: January 13, 2006.
William L. Wehrum,
Acting Assistant Administrator, Office of Air and Radiation.

[FR Doc. E6-637 Filed 1-19-06; 8:45 am]

BILLING CODE 6560-50-P